DEPARTMENT OF COMMERCE

National Oceanic and Atmospheric Administration

[RTID 0648-XA844]

Fisheries of the U.S. Caribbean; Southeast Data, Assessment, and Review (SEDAR); Public Meeting; Cancellation

AGENCY: National Marine Fisheries Service (NMFS), National Oceanic and Atmospheric Administration (NOAA), Commerce.

ACTION: Notice of cancellation of SEDAR 80 Life History Topical Working Group Webinar I for U.S. Caribbean Queen Triggerfish.

SUMMARY: The SEDAR 80 stock assessment of U.S. Caribbean queen triggerfish will consist of a series of data webinars. See SUPPLEMENTARY INFORMATION.

DATES: The SEDAR 80 Life History Topical Working Group Webinar I was scheduled for March 10, 2021.

ADDRESSES: Meeting address: The meeting was to be held via webinar.

SEDAR address: 4055 Faber Place Drive, Suite 201, North Charleston, SC 29405.

FOR FURTHER INFORMATION CONTACT: Julie A. Neer, SEDAR Coordinator; (843) 571-4366; Email: Julie.neer@safmc.net.

SUPPLEMENTARY INFORMATION: The meeting notice published on February 3, 2021 (86 FR 8003). This notice announces that the meeting is cancelled.

(Authority: 16 U.S.C. 1801 et seq.)

Dated: February 19, 2021.
Tracey L. Thompson,
Acting Deputy Director, Office of Sustainable Fisheries, National Marine Fisheries Service.

[FR Doc. 2021-03856 Filed 2-24-21; 8:45 am]

BILLING CODE 3510-22-P